DEPARTMENT OF HEALTH AND HUMAN SERVICES

[Document Identifier: OS-0990-0407]

Agency Information Collection Request; 60-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before April 29, 2019.

ADDRESSES: Submit your comments to Sherrette.Funn@hhs.gov or by calling (202) 795-7714.

FOR FURTHER INFORMATION CONTACT: When submitting comments or requesting information, please include the document identifier 0990-0407-60D, and project title for reference, to Sherrette Funn, the Reports Clearance Officer, Sherrette.funn@hhs.gov, or call 202-795-7714.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Think Cultural Health (TCH) website Quality Improvement Effort—OMB No. 0990-0407—Revision—HHS/OS/OMH.

Abstract: The Office of Minority Health (OMH), Office of the Secretary (OS), Department of Health and Human Services (HHS) is requesting approval by OMB on a revision to a previously approved data collection. The Think Cultural Health (TCH) website is an initiative of the HHS OMH's Center for Linguistic and Cultural Competence in Health Care (CLCCHC), and is a repository of the latest resources and tools to promote cultural and linguistic competency in health and health care. The TCH website is unlike other government websites in that its suite of e-learning programs affords health and health care professionals the ability to earn continuing education credits through training in cultural and linguistic competency. The revision to this information collection request includes the online website registration form, course/unit evaluations specific to the resource or e-learning program course/unit completed, follow up surveys, focus groups, and key informant interviews.

Need and Proposed Use of the Information: The data will be used to ensure that the offerings on the TCH website are relevant, useful, and appropriate to their target audiences. The findings from the data collection will be of interest to HHS OMH in supporting maintenance and revisions of the offerings on the TCH website.

Total Estimated Annualized Burden—Hours
Form name | Type of respondent | Number of respondent | Number responses per respondent | Average burden per response (hours) | Total burden (hours)
Registration Form | Health and Health Care Professionals | 9,460 | 1.00 | 3/60 | 473
Course/unit Evaluation Form | Health and Health Care Professionals | 9,460 | 1.00 | 5/60 | 788
Follow-Up Survey | Health and Health Care Professionals | 4,208 | 1.00 | 10/60 | 701
Follow-Up Survey | Community Health Workers | 6 | 2.00 | 10/60 | 2
Focus Groups | Health and Health Care Professionals | 15 | 1.00 | 120/60 | 29
Key Informant Interviews | Health and Health Care Professionals | 13 | 1.00 | 60/60 | 13
Key Informant Interviews | Community Health Workers | 25 | 1.00 | 60/60 | 25
Total |  | 23,187 |  |  | 2,031

Terry Clark,
Asst Paperwork Reduction Act Reports Clearance Officer, Office of the Secretary.

[FR Doc. 2019-03546 Filed 2-27-19; 8:45 am]

BILLING CODE 4150-29-P